DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than March 2, 2015.

Interested persons are invited to submit written comments regarding the subject matter of the investigations to the Director, Office of Trade Adjustment Assistance, at the address shown below, not later than March 2, 2015.

The petitions filed in this case are available for inspection at the Office of the Director, Office of Trade Adjustment Assistance, Employment and Training Administration, U.S. Department of Labor, Room N-5428, 200 Constitution Avenue NW., Washington, DC 20210.

Signed at Washington, DC this 21st day of January 2015.
Michael W. Jaffe,
Certifying Officer, Office of Trade Adjustment Assistance.

Appendix

15 TAA Petitions Instituted Between 1/5/15 and 1/16/15
TA-W | Subject firm (Petitioners) | Location | Date of institution | Date of petition
85752 | Lear Corporation (Workers) | Southfield, MI | 01/07/15 | 01/06/14
85753 | U.S. Steel Tubular Products, Inc. (State/One-Stop) | Houston, TX | 01/07/15 | 01/06/15
85754 | Hypertronics Corporation (Company) | Hudson, MA | 01/07/15 | 12/16/14
85755 | Linatex Corporation of America DBA Weir Minerals Linatex North America (Company) | St. Croix Falls, WI | 01/07/15 | 01/06/15
85756 | Crown Casting Industries (State/One-Stop) | Hodges, SC | 01/08/15 | 01/07/15
85757 | RHI Monofrax LLC (State/One-Stop) | Falconer, NY | 01/09/15 | 01/08/15
85758 | Oxane Materials (Workers) | Van Buren, AR | 01/12/15 | 01/12/15
85759 | International Automotive Components Group, North America (Union) | Canton, OH | 01/12/15 | 01/09/15
85760 | Medtronic Ablation Frontiers, Inc. (Company) | Carlsbad, CA | 01/14/15 | 01/13/15
85761 | TriNet HR Corporation (Workers) | San Leandro, CA | 01/14/15 | 01/13/15
85762 | Advanced Ion Beam (State/One-Stop) | Danvers, MA | 01/14/15 | 01/13/15
85763 | Ross Mould, Inc. (Union) | Washington, PA | 01/15/15 | 01/13/15
85764 | ITW Thielex (Company) | Somerset, NJ | 01/15/15 | 01/15/15
85765 | Vencore Services (formally known as Qinetiq North America) (Workers) | Reston, VA | 01/16/15 | 01/15/15
85766 | Premier Turbines (Union) | Neosho, MO | 01/16/15 | 01/14/15

[FR Doc. 2015-03270 Filed 2-17-15; 8:45 am]

BILLING CODE 4510-FN-P